DEPARTMENT OF COMMERCE

National Oceanic and Atmospheric Administration

RIN 0648-XD864

Mid-Atlantic Fishery Management Council (MAFMC); Public Meetings

AGENCY: National Marine Fisheries Service (NMFS), National Oceanic and Atmospheric Administration (NOAA), Commerce.

ACTION: Notice of public meeting.

SUMMARY: The Mid-Atlantic Fishery Management Council's (Council's) Law Enforcement Committee will hold a public meeting.

DATES: The meeting will be held on Tuesday, May 5, 2015, from 2 p.m. to 5 p.m., via internet webinar.

ADDRESSES: The meeting will be held via webinar with a telephone-only connection option.

Council address: Mid-Atlantic Fishery Management Council, 800 N. State St., Suite 201, Dover, DE 19901; telephone: (302) 674-2331.

FOR FURTHER INFORMATION CONTACT: Christopher M. Moore, Ph.D., Executive Director, Mid-Atlantic Fishery Management Council; telephone: (302) 526-5255. The Council's Web site, www.mafmc.org will have details on the proposed agenda, webinar access, and briefing materials.

SUPPLEMENTARY INFORMATION: The purpose of this meeting is for the Law Enforcement Committee to discuss enforcement issues related to the Council's Deep Sea Corals Amendment, including the enforceability of current amendment alternatives. Comments and recommendations from the Law Enforcement Committee will be forwarded to the full Council prior to the Council taking final action on the Deep Sea Corals Amendment.

Although non-emergency issues not contained in this agenda may come before this group for discussion, in accordance with the Magnuson-Stevens Fishery Conservation and Management Act (Magnuson-Stevens Act), those issues may not be the subject of formal action during this meeting. Actions will be restricted to those issues specifically identified in this notice and any issues arising after publication of this notice that require emergency action under Section 305(c) of the Magnuson-Stevens Act, provided the public has been notified of the Council's intent to take final action to address the emergency.

Webinar and phone connection information, a detailed agenda, and any briefing materials will be posted at www.mafmc.org prior to the meeting. Background information and documents for the Deep Sea Corals Amendment can be found at: http://www.mafmc.org/actions/msb/am16.

Special Accommodations

The meeting is physically accessible to people with disabilities. Requests for sign language interpretation or other auxiliary aid should be directed to M. Jan Saunders, (302) 526-5251, at least 5 days prior to the meeting date.

Dated: April 13, 2015.
Tracey L. Thompson,
Acting Deputy Director, Office of Sustainable Fisheries, National Marine Fisheries Service.

[FR Doc. 2015-08716 Filed 4-15-15; 8:45 am]

BILLING CODE 3510-22-P